NUCLEAR REGULATORY COMMISSION

Draft Regulatory Guide: Issuance, Availability

AGENCY: Nuclear Regulatory Commission.

ACTION: Notice of Issuance and Availability of Draft Regulatory Guide, DG-3034.

FOR FURTHER INFORMATION CONTACT: Timothy Johnson, U.S. Nuclear Regulatory Commission, Washington, DC 20555-0001, telephone: (301) 492-3121 or e-mail to Timothy.Johnson@nrc.gov.

SUPPLEMENTARY INFORMATION:

I. Introduction

The U.S. Nuclear Regulatory Commission (NRC) has issued for public comment a draft regulatory guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), titled, “General Design Guide for Ventilation Systems of Plutonium Processing and Fuel Fabrication Plants,” is temporarily identified by its task number, DG-3034, which should be mentioned in all related correspondence.

Proposed Revision 1 of Regulatory Guide 3.12 describes a method that the staff of the NRC considers acceptable for use in complying with 10 CFR 70.23(a)(3) and (a)(4) with respect to the design of ventilation systems for plutonium processing and fuel fabrication plants. At plutonium processing and fuel fabrication plants, a principal risk to health and safety is the release and dispersal of radioactive materials. The prevention of such release and dispersal is an important function of the ventilation systems. To meet these objectives, this guide provides recommendations for achieving defense in depth and for minimizing the release of radioactive materials to the environment.

Each applicant for a license to possess and use special nuclear material in a plutonium processing and fuel fabrication plant as defined in 10 CFR 70.4, “Special Nuclear Material,” must satisfy the provisions of 10 CFR 70.23, “Requirements for the approval of applications.” Paragraphs (a)(3) and (a)(4) of 10 CFR 70.23 require that the applicant's proposed equipment, facility, and procedures be adequate to protect health and minimize danger to life or property.

II. Further Information

The NRC staff is soliciting comments on DG-3034. Comments may be accompanied by relevant information or supporting data, and should mention DG-3034 in the subject line. Comments submitted in writing or in electronic form will be made available to the public in their entirety through the NRC's Agencywide Documents Access and Management System (ADAMS).

Personal information will not be removed from your comments. You may submit comments by any of the following methods:

1. Mail comments to: Rulemaking, Directives, and Editing Branch, Office of Administration, U.S. Nuclear Regulatory Commission, Washington, DC 20555-0001.

2. E-mail comments to: NRCREP@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about DG-3034 may be directed to Timothy Johnson at (301) 492-3121 or e-mail to Timothy.Johnson@nrc.gov.

Comments would be most helpful if received by October 1, 2008. Comments received after that date will be considered if it is practical to do so, but the NRC is able to ensure consideration only for comments received on or before this date. Although a time limit is given, comments and suggestions in connection with items for inclusion in guides currently being developed or improvements in all published guides are encouraged at any time.

Electronic copies of DG-3034 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML081080479.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to PDR@nrc.gov.

Regulatory guides are not copyrighted, and Commission approval is not required to reproduce them.

Dated at Rockville, Maryland, this 25th day of July, 2008.
For the Nuclear Regulatory Commission.
Harriet Karagiannis,
Acting Chief, Regulatory Guide Development Branch, Division of Engineering, Office of Nuclear Regulatory Research.

[FR Doc. E8-17542 Filed 7-30-08; 8:45 am]

BILLING CODE 7590-01-P